DEPARTMENT OF THE TREASURY

Public Meeting of the Commission on Social Impact Partnerships

AGENCY: Department of the Treasury.

ACTION: Notice of meeting.

SUMMARY: The Commission on Social Impact Partnerships (“Commission”) will convene for a public meeting on Wednesday, October 9, 2019, at the U.S. Department of the Treasury, 1500 Pennsylvania Avenue NW, Washington, DC 20220, in Room 5432, from 9:00 a.m.-12:00 p.m. Eastern Time. The meeting will be open to the public, and the site is accessible to individuals with disabilities.

DATES: The meeting will be held on Wednesday, October 9, 2019, from 9:00 a.m.-12:00 p.m. Eastern Time.

ADDRESSES: The meeting will be held at the U.S. Department of the Treasury, 1500 Pennsylvania Avenue NW, Washington, DC, 20020, Room 5432.

The meeting will be open to the public. Because the meeting will be held in a secured facility, members of the public who would like to attend the meeting must send an email to Elizabeth Sawyer (elizabeth.sawyer@treasury.gov) by 5:00 p.m. Eastern Time on Wednesday, October 2, 2019 containing each proposed attendee's email address and full name (first, middle, and last). Ms. Sawyer will send the secure online registration form to each attendee via email. A valid email address will be required to complete the online registration. Because of space constraints in Room 5432, Treasury expects to limit attendance to the first 20 members of the public to submit their request to Ms. Sawyer and successfully complete the online registration.

Requests for reasonable accommodations under Section 504 of the Rehabilitation Act should be directed to Marcia Small Bowman, Office of Civil Rights and Diversity, Department of the Treasury, at 202-622-8177 or marcia.smallbowman@treasury.gov.

Submission of Written Statements: The public is invited to submit written statements to the Commission. Written statements should be sent by any one of the following methods:

Electronic Statements: Email: SIPPRA@treasury.gov, Attn: Holly Posin, Docket ID No. 03282019.

Paper Statements: Send paper statements to SIPPRA Commission, Attn: Holly Posin, Docket ID No. 03282019, U.S. Department of the Treasury, Main Treasury Building, Room 3127, 1500 Pennsylvania Avenue NW, Washington, DC 20220. In general, Treasury will make all statements available in their original format, including any business or personal information provided such as names, addresses, email addresses, or telephone numbers, for public inspection and photocopying in Treasury's library located at Treasury Department Annex, 1500 Pennsylvania Avenue NW, Washington, DC 20220. The library is open on official business days between the hours of 10:00 a.m. and 4:30 p.m. You can make an appointment to inspect statements by calling (202) 622-0990. All statements received, including attachments and other supporting materials, are part of the public record and subject to public disclosure. You should only submit information that you wish to make publicly available.

FOR FURTHER INFORMATION CONTACT: Holly Posin, the Designated Federal Officer (“DFO”) for the Commission, U.S. Department of the Treasury, 1500 Pennsylvania Ave. NW, Washington, DC 20020; via phone/voice mail at: (202) 622-3282; via fax at: (202) 622-2633; or via email at: holly.posin2@treasury.gov. Persons who have difficulty hearing or speaking may access this number via TTY by calling the toll-free Federal Relay Service at (800) 877-8339.

SUPPLEMENTARY INFORMATION: On February 9, 2018, the President signed the Bipartisan Budget Act of 2018, establishing the Commission under the Social Impact Partnerships to Pay for Results Act (“SIPPRA”). The Commission's duties include making recommendations to Treasury on whether to fund social impact partnership grant applications. The Commission consists of nine members. Eight members are appointed by congressional leadership, and the ninth member is appointed by the President. The President's appointee serves as the Chair of the Commission. In accordance with section 10(a) of the Federal Advisory Committee Act, 5 U.S.C. App. 2, and the regulations thereunder, Holly Posin, DFO of the Commission, has ordered publication of this notice that the Commission will convene a meeting on October 9, 2019, at the U.S. Department of the Treasury, 1500 Pennsylvania Avenue NW, Washington, DC, 9:00 a.m.-12:00 p.m. Eastern Time. During this meeting, the Commission will discuss applications submitted to Treasury in response to the SIPPRA Notice of Funding Availability that Treasury published in the Federal Register on February 21, 2019. Treasury expects to make all documents discussed by the Commission available for public inspection and photocopying in Treasury's library in advance of the meeting. Treasury does not expect the Commission to make funding recommendations to Treasury at this meeting.

Dated: September 13, 2019.
Michael Faulkender,
Assistant Secretary for Economic Policy.

[FR Doc. 2019-20379 Filed 9-19-19; 8:45 am]

BILLING CODE 4810-25-P